NATIONAL AERONAUTICS AND SPACE ADMINISTRATION

[Notice: (16-049)]

NASA Advisory Council; Ad Hoc Task Force on STEM Education Meeting

AGENCY: National Aeronautics and Space Administration.

ACTION: Notice of meeting.

SUMMARY: In accordance with the Federal Advisory Committee Act, Public Law 92-463, as amended, the National Aeronautics and Space Administration announces a meeting of the Ad Hoc Task Force on Science, Technology, Engineering and Mathematics (STEM) of the NASA Advisory Council (NAC). This Task Force reports to the NAC.

DATES: Tuesday, July 26, 2016, 10:00 a.m.-5:15 p.m., Local Time.

ADDRESSES: Ohio Aerospace Institute, 3rd Floor Conference Room, 22800 Cedar Point Road, Cleveland, Ohio 44142, from 10:00 a.m. to 3:15 p.m. From 3:15 p.m. to 5:15 p.m., a joint session with the NAC Science Committee will take place in Industry Room B.

FOR FURTHER INFORMATION CONTACT: Dr. Beverly Girten, Executive Secretary for the NAC Ad Hoc Task Force on STEM Education, NASA Headquarters, Washington, DC 20546, (202) 358-0212, or beverly.e.girten@nasa.gov.

SUPPLEMENTARY INFORMATION: The meeting will be open to the public up to the capacity of the room. This meeting is also available telephonically and by WebEx. You must use a touch-tone phone to participate in this meeting. From the start of the meeting on July 26 at 10:00 a.m. until 3:15 p.m., please use the following information: The meeting will be held in the 3rd Floor Conference Room. Any person interested in joining the meeting may dial the toll free access number 844-467-6272 or toll access number 720-259-6462, and then the numeric participant passcode: 329152 followed by the # sign. If dialing in, please “mute” your telephone. To join via WebEx, the link is https://nasa.webex.com/, the meeting number is 991 407 556 and the password is STEMEdJuly26! (case sensitive). Beginning at 3:15 p.m. on July 26 until the end of the meeting at 5:15 p.m., for the joint session with the NAC Science Committee, please use the following information: The joint session will be held in Industry Room B. Any person interested in joining the meeting may call the USA toll free conference call number 1-888-790-1716, passcode 4101817, or toll number 1-212-287-1654, passcode 4101817 followed by the # sign. If dialing in, please “mute” your telephone. The WebEx link is https://nasa.webex.com/, the meeting number is 992 934 159 and the password is SC@July2016 (case sensitive).

The agenda for the July 26 meeting will include the following:

—Opening Remarks by Chair

—Interagency Collaborations in Education

—Formulating Findings and Recommendations

—Joint Session with NAC Science Committee

—Other Related Topics

Attendees will be required to sign a register. It is imperative that the meeting be held on this date to accommodate the scheduling priorities of the key participants.

Patricia D. Rausch,
Advisory Committee Management Officer, National Aeronautics and Space Administration.

[FR Doc. 2016-16184 Filed 7-7-16; 8:45 am]

BILLING CODE 7510-13-P